DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 14, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Scientific Exchange Program.

OMB Control Number: 0551-New.

Summary of Collection: The primary purpose for this information collection is for the Scientific Exchanges Program implemented by USDA's Foreign Agricultural Service, Global Programs, Fellowship Programs. The program aims to educate a new generation of agricultural scientists from middle-income and emerging market countries, promote collaborative research, and extend knowledge to users and intermediaries in the international agricultural marketplace. USDA also uses the program as a market development tool to assist in opening markets and decreasing or eliminating trade barriers, which ultimately increases and creates new opportunities for U.S. agricultural exports. Authority for these programs falls under: 7 U.S. Code § 3291—Agricultural fellowship program for middle income countries, emerging democracies, and emerging markets.

Need and Use of the Information: The information collected by Fellowship Programs is used to implement the USDA FAS Scientific Exchanges Program. The information is collected through the Scientific Exchanges Program Application that candidates submit to FAS staff through a form application submitted by email. This information is collected to execute each Scientific Exchanges Program. Applicants are interviewed verbally as part of the application process. Based on this interview, the best qualified candidates are selected to participate in the Program.

The evaluation form is used by Scientific Exchanges Program staff to assess the success of each training program. Fellowship staff uses this form to assess whether programs goals were achieved and receive feedback from participants on how to improve future programming. This is a critical part of Fellowship Programs as it helps improve programs and ensure Fellowship Programs is meeting FAS goals.

Without the application and evaluation form, the Foreign Agricultural Service would not be able execute the Scientific Exchange Program and it would be severely impacted and the objected and goals would not be met.

Description of Respondents: Individuals or households.

Number of Respondents: 100.

Frequency of Responses: Reporting: On occasion.

Total Burden Hours: 426.

Ruth Brown,
Departmental Information Collection Clearance Officer.

[FR Doc. 2023-12683 Filed 6-13-23; 8:45 am]

BILLING CODE 3410-10-P